DEPARTMENT OF DEFENSE

GENERAL SERVICES ADMINISTRATION

NATIONAL AERONAUTICS AND SPACE ADMINISTRATION

48 CFR Ch. 1

Semiannual Regulatory Agenda

AGENCY: Department of Defense (DoD), General Services Administration (GSA), and National Aeronautics and Space Administration (NASA).

ACTION: Semiannual regulatory agenda.

SUMMARY: This agenda announces the proposed regulatory actions the Council plans for the next 12 months and those completed since the fall 2018 edition. This agenda was developed under the guidelines of Executive Orders (E.O.) 12866 “Regulatory Planning and Review,” as amended, Executive Order 13771 “Reducing Regulation and Controlling Regulatory Costs,” and Executive Order 13563 “Improving Regulation and Regulatory Review.” The purpose in publishing this agenda is to allow interested persons an opportunity to participate in the rulemaking process. Members of the public may submit comments on individual proposed and interim final rulemakings at www.regulations.gov during the comment period that follows publication in the Federal Register. This agenda updates the report published on June 24, 2019, and the next agenda is scheduled for publication in the spring of 2020. The complete Unified Agenda is available online at www.reginfo.gov.

FOR FURTHER INFORMATION CONTACT: Lois Mandell, Division Director, Regulatory Secretariat Division, 1800 F Street NW, 2nd Floor, Washington, DC 20405-0001, 202-501-4755.

SUPPLEMENTARY INFORMATION: DoD, GSA, and NASA, under their several statutory authorities, jointly issue and maintain the FAR through periodic issuance of changes published in the Federal Register and produced electronically as Federal Acquisition Circulars (FACs).

The electronic version of the FAR, including changes, can be accessed at http://www.acquisition.gov/far.

Dated: July 24, 2019.
William F. Clark,
Director, Office of Government-wide Acquisition Policy, Office of Acquisition Policy, Office of Government-wide Policy.

DOD/GSA/NASA (FAR)—Proposed Rule Stage
Sequence No. | Title | Regulation Identifier No.
359 | FAR Acquisition Regulation (FAR); FAR Case 2015-038, Reverse Auction Guidance | 9000-AN31
360 | Federal Acquisition Regulation; FAR Case 2016-002, Applicability of Small Business Regulations Outside the United States | 9000-AN34
361 | Federal Acquisition Regulation (FAR); FAR Case 2016-013, Tax on Certain Foreign Procurement | 9000-AN38
362 | Federal Acquisition Regulation (FAR); FAR Case 2017-003; Individual Sureties | 9000-AN39
363 | Federal Acquisition Regulation (FAR); FAR Case 2017-014, Use of Acquisition 360 to Encourage Vendor Feedback | 9000-AN43
364 | Federal Acquisition Regulation (FAR); FAR Case 2017-013, Breaches of Personally Identifiable Information | 9000-AN44
365 | Federal Acquisition Regulation (FAR); FAR Case 2017-011, Section 508-Based Standards in Information and Communication Technology | 9000-AN46
366 | Federal Acquisition Regulation (FAR); FAR Case 2017-016, Controlled Unclassified Information (CUI) | 9000-AN56
367 | Federal Acquisition Regulation (FAR); FAR Case 2017-018, Violation of Arms Control Treaties or Agreements With the United States | 9000-AN57
368 | Federal Regulation Acquisition (FAR); FAR Case 2017-019, Policy on Joint Ventures | 9000-AN59
369 | Federal Acquisition Regulation (FAR); FAR Case 2018-002, Protecting Life in Global Health Assistance | 9000-AN62
370 | Federal Acquisition Regulation (FAR); FAR Case 2018-004; Increased Micro-Purchase and Simplified Acquisition Thresholds | 9000-AN65
371 | Federal Acquisition Regulation (FAR); FAR Case 2018-006; Definition of Subcontract | 9000-AN66
372 | Federal Acquisition Regulation (FAR); FAR Case 2018-005, Modifications to Cost or Pricing Data and Reporting Requirements | 9000-AN69
373 | Federal Acquisition Regulation (FAR); FAR Case 2018-012, Rights to Federally Funded Inventions and Licensing of Government-Owned Inventions | 9000-AN71
374 | Federal Acquisition Regulation (FAR); FAR Case 2018-013, Exemption of Commercial and COTS Item Contracts From Certain Laws and Regulations | 9000-AN72
375 | Federal Acquisition Regulation (FAR); FAR Case 2018-014, Increasing Task-Order Level Competition | 9000-AN73
376 | Federal Acquisition Regulation (FAR); FAR Case 2018-016, Lowest Price Technically Acceptable Source Selection Process | 9000-AN75
377 | Federal Acquisition Regulation (FAR); FAR Case 2018-018, Revision of Definition of “Commercial Item” | 9000-AN76
378 | Federal Acquisition Regulation (FAR); FAR Case 2018-019, Review of Commercial Clause Requirements and Flowdown | 9000-AN77
379 | Federal Acquisition Regulation (FAR); FAR Case 2018-020, Construction Contract Administration | 9000-AN78
380 | Federal Acquisition Regulation (FAR); FAR Case 2018-021, Reserve Officer Training Corps and Military Recruiting on Campus | 9000-AN79
381 | Federal Acquisition Regulation (FAR); FAR Case 2018-022; Orders Issued Via Fax or Electronic Commerce | 9000-AN80
382 | Federal Acquisition Regulation (FAR); FAR Case 2018-023, Taxes—Foreign Contracts in Afghanistan | 9000-AN81
383 | Federal Acquisition Regulation (FAR); FAR Case 2018-024; Use of Interagency Fleet Management System Vehicles and Related Services | 9000-AN82
384 | Federal Acquisition Regulation (FAR); FAR Case 2019-001, Analysis for Equipment Acquisitions | 9000-AN84
385 | Federal Acquisition Regulation (FAR); FAR Case 2019-002, Recreational Services on Federal Lands | 9000-AN85
386 | Federal Acquisition Regulation (FAR); FAR Case 2019-003, Substantial Bundling and Consolidation | 9000-AN86
387 | Federal Acquisition Regulation (FAR); FAR Case 2019-004, Good Faith in Small Business Subcontracting | 9000-AN87
388 | Federal Acquisition Regulation (FAR); FAR Case 2019-007, Update of Historically Underutilized Business Zone Program | 9000-AN90
389 | Federal Acquisition Regulation (FAR); FAR Case 2019-008, Small Business Program Amendments | 9000-AN91
390 | Federal Acquisition Regulation (FAR); FAR Case 2019-009, Prohibition on Contracting With Entities Using Certain Telecommunications and Video Surveillance Services or Equipment | 9000-AN92
391 | Federal Acquisition Regulation (FAR); FAR Case 2019-010, Efficient Federal Operations | 9000-AN94
392 | Federal Acquisition Regulation (FAR); FAR Case 2019-013, Inflation Adjustment of Acquisition-Related Thresholds | 9000-AN96
393 | Federal Acquisition Regulation (FAR); FAR Case 2019-015, Improving Consistency Between Procurement & Non-Procurement Procedures on Suspension and Debarment | 9000-AN98
394 | Federal Acquisition Regulation (FAR); FAR Case 2019-016, Maximizing Use of American-Made Goods, Products and Materials | 9000-AN99

DOD/GSA/NASA (FAR)—Final Rule Stage
Sequence No. | Title | Regulation Identifier No.
395 | Federal Acquisition Regulation (FAR); FAR Case 2013-002; Reporting of Nonconforming Items to the Government-Industry Data Exchange Program (Reg Plan Seq No. 151) | 9000-AM58
396 | Federal Acquisition Regulation (FAR); FAR Case 2014-002; Set-Asides Under Multiple Award Contracts | 9000-AM93
397 | Federal Acquisition Regulation: FAR Case 2016-005; Effective Communication Between Government and Industry | 9000-AN29
398 | Federal Acquisition Regulation (FAR); FAR Case 2017-005, Whistleblower Protection for Contractor Employees | 9000-AN32
399 | Federal Acquisition Regulation (FAR); FAR Case 2016-011, Revision of Limitations on Subcontracting | 9000-AN35
400 | Federal Acquisition Regulations (FAR); FAR Case 2015-002, Requirements for DD Form 254, Contract Security Classification Specification | 9000-AN40
401 | Federal Acquisition Regulation (FAR); FAR Case 2017-010, Evaluation Factors for Multiple-Award Contracts | 9000-AN54
402 | Federal Acquisition Regulation (FAR); FAR Case 2018-003, Credit for Lower-Tier Small Business Subcontracting | 9000-AN61
403 | Federal Acquisition Regulation (FAR); FAR Case 2018-017—Prohibition on Certain Telecommunications and Video Surveillance Services or Equipment | 9000-AN83
404 | Federal Acquisition Regulation (FAR); FAR Case 2019-005, Update to Contract Performance Assessment Reporting System (CPARS) | 9000-AN88
References in boldface appear in The Regulatory Plan in part II of this issue of the Federal Register.

DOD/GSA/NASA (FAR)—Completed Actions
Sequence No. | Title | Regulation Identifier No.
405 | Federal Acquisition Regulation (FAR); FAR Case 2015-015; Strategic Sourcing Documentation | 9000-AM89
406 | Federal Acquisition Regulation (FAR); FAR Case 2015-033, Sustainable Acquisition | 9000-AN28
407 | Federal Acquisition Regulation (FAR); FAR Case 2017-006, Exception From Certified Cost or Pricing Data Requirements—Adequate Price Competition | 9000-AN53
408 | Federal Acquisition Regulation (FAR); FAR Case 2017-020, Ombudsman for Indefinite-Delivery Contracts | 9000-AN58
409 | Federal Acquisition Regulation (FAR); FAR Case 2018-010, Use of Product and Services of Kaspersky Lab | 9000-AN64

DEPARTMENT OF DEFENSE/GENERAL SERVICES ADMINISTRATION/NATIONAL AERONAUTICS AND SPACE ADMINISTRATION (FAR)

Proposed Rule Stage

359. FAR Acquisition Regulation (FAR); FAR Case 2015-038, Reverse Auction Guidance

E.O. 13771 Designation: Other.

Legal Authority: 40 U.S.C. 121(c); 10 U.S.C. ch. 137; 51 U.S.C. 20113

Abstract: DoD, GSA, and NASA are proposing to amend the Federal Acquisition Regulation (FAR) to implement policies addressing the effective use of reverse auctions. Reverse auctions involve offerors lowering their pricing over multiple rounds of bidding in order to win Federal contracts. This change incorporates guidance from the Office of Federal Procurement Policy (OFPP) memorandum, “Effective Use of Reverse Auctions,” which was issued in response to recommendations from the GAO report, Reverse Auctions: Guidance is Needed to Maximize Competition and Achieve Cost Savings (GAO-14-108). Reverse auctions are one tool used by Federal agencies to increase competition and reduce the cost of certain items. Reverse auctions differ from traditional auctions in that sellers compete against one another to provide the lowest price or highest-value offer to a buyer. This change to the FAR will include guidance that will standardize agencies' use of reverse auctions to help agencies maximize competition and savings when using reverse auctions.

Timetable:

Action | Date | FR Cite
NPRM | 12/00/19
NPRM Comment Period End | 02/00/20

Regulatory Flexibility Analysis Required: Yes.

Agency Contact: Curtis E. Glover Sr., Procurement Analyst, DOD/GSA/NASA (FAR), 1800 F Street NW, Washington, DC 20405, Phone: 202 501-1448, Email: curtis.glover@gsa.gov.

RIN: 9000-AN31

360. Federal Acquisition Regulation; FAR Case 2016-002, Applicability of Small Business Regulations Outside the United States

E.O. 13771 Designation: Fully or Partially Exempt.

Legal Authority: 40 U.S.C. 121(c); 10 U.S.C. ch. 137; 51 U.S.C. 20113

Abstract: DoD, GSA, and NASA are issuing a final rule to amend the Federal Acquisition Regulation (FAR) consistent with SBA's regulation at 13 CFR 125.2 as finalized in its rule “Acquisition Process: Task and Delivery Order Contracts, Bundling, Consolidation” issued on October 2, 2013, to clarify that overseas contracting is not excluded from agency responsibilities to foster small business participation.

In its final rule, SBA has clarified that, as a general matter, its small business contracting regulations apply regardless of the place of performance. In light of these changes, there is a need to amend the FAR, both to bring its coverage into alignment with SBA's regulation, and to give agencies the tools they need, especially the ability to use set-asides to maximize opportunities for small businesses overseas.

SBA has included contracts performed outside of the United States in agencies' prime contracting goals since FY 2016. Although inclusion for goaling purposes is not dependent on FAR changes, amending FAR part 19 will allow agencies to take advantage of the tools authorized for providing small business opportunities for contracts awarded outside of the United States.

This will make it easier for small businesses to receive additional opportunities for contracts performed outside of the United States.

Timetable:

Action | Date | FR Cite
NPRM | 08/12/19 | 84 FR 39793
NPRM Comment Period End | 10/11/19
Final Rule | 04/00/20

Regulatory Flexibility Analysis Required: Yes.

Agency Contact: Marilyn Chambers, Procurement Analyst, DOD/GSA/NASA (FAR), 1800 F Street NW, Washington, DC 20405, Phone: 202 969-7185, Email: marilyn.chambers@gsa.gov.

RIN: 9000-AN34

361. Federal Acquisition Regulation (FAR); FAR Case 2016-013, Tax on Certain Foreign Procurement

E.O. 13771 Designation: Fully or Partially Exempt.

Legal Authority: 40 U.S.C. 121(c); 10 U.S.C. ch. 37; 51 U.S.C. 20113

Abstract: DoD, GSA, and NASA are issuing a final rule to amend the Federal Acquisition Regulation (FAR) to implement a final rule issued by the Department of the Treasury that implements section 301 of the James Zadroga 9/11 Health and Compensation Act of 2010, Public Law 111347. This section imposes on any foreign person that receives a specified Federal procurement payment a tax equal to two percent of the amount of such payment. This rule applies to foreign persons that are awarded Federal Government contracts to provide goods or services.

Timetable:

Action | Date | FR Cite
NPRM | 09/20/19 | 84 FR 49498
NPRM Comment Period End | 11/19/19
Final Rule | 06/00/20

Regulatory Flexibility Analysis Required: Yes.

Agency Contact: Zenaida Delgado, Procurement Analyst, DOD/GSA/NASA (FAR), 1800 F Street NW, Washington, DC 20405, Phone: 202 969-7207, Email: zenaida.delgado@gsa.gov.

RIN: 9000-AN38

362. Federal Acquisition Regulation (FAR); FAR Case 2017-003; Individual Sureties

E.O. 13771 Designation: Other.

Legal Authority: 40 U.S.C. 121(c); 10 U.S.C. 137; 51 U.S.C. 20113

Abstract: DoD, GSA, and NASA are proposing to amend the Federal Acquisition Regulation (FAR) to change the kinds of assets that individual sureties must use as security for their individual surety bonds. This change implements section 874 of the National Defense Authorization Act (NDAA) for FY 2016 (Pub. L. 114-92), codified at 31 U.S.C. 9310, Individual Sureties. Individual sureties will no longer be able to pledge real property, corporate stocks, corporate bonds, or irrevocable letters of credit. The requirements of 31 U.S.C. 9310 are intended to strengthen the assets pledged by individual sureties, thereby mitigating risk to the Government.

Timetable:

Action | Date | FR Cite
NPRM | 01/00/20
NPRM Comment Period End | 03/00/20

Regulatory Flexibility Analysis Required: Yes.

Agency Contact: Zenaida Delgado, Procurement Analyst, DOD/GSA/NASA (FAR), 1800 F Street NW, Washington, DC 20405, Phone: 202 969-7207, Email: zenaida.delgado@gsa.gov.

RIN: 9000-AN39

363. Federal Acquisition Regulation (FAR); FAR Case 2017-014, Use of Acquisition 360 To Encourage Vendor Feedback

E.O. 13771 Designation: Other.

Legal Authority: 40 U.S.C. 121(c); 10 U.S.C. ch. 137; 51 U.S.C. 20113

Abstract: DoD, GSA, and NASA are proposing to amend the Federal Acquisition Regulation (FAR) to address the solicitation of contractor feedback on both contract formation and contract administration activities. Agencies would consider this feedback, as appropriate, to improve the efficiency and effectiveness of their acquisition activities. The rule would create FAR policy to encourage regular feedback in accordance with agency practice (both for contract formation and administration activities) and a standard FAR solicitation provision to support a sustainable model for broadened use of the Acquisition 360 survey to elicit feedback on the pre-award and debriefing processes in a consistent and standardized manner. Agencies would be able to use the solicitation provision to notify interested sources that a procurement is part of the Acquisition 360 survey and encourage stakeholders to voluntarily provide feedback on their experiences of the pre-award process.

Timetable:

Action | Date | FR Cite
ANPRM | 07/23/18 | 83 FR 34820
ANPRM Comment Period End | 09/21/18
NPRM | 01/00/20
NPRM Comment Period End | 03/00/20

Regulatory Flexibility Analysis Required: Yes.

Agency Contact: Curtis E. Glover Sr., Procurement Analyst, DOD/GSA/NASA (FAR), 1800 F Street NW, Washington, DC 20405, Phone: 202 501-1448, Email: curtis.glover@gsa.gov.

RIN: 9000-AN43

364. Federal Acquisition Regulation (FAR); FAR Case 2017-013, Breaches of Personally Identifiable Information

E.O. 13771 Designation: Other.

Legal Authority: 40 U.S.C. 121(c); 10 U.S.C. ch. 137; 51 U.S.C. 20113

Abstract: DoD, GSA, and NASA are proposing to amend the Federal Acquisition Regulation (FAR) to create and implement appropriate contract clauses and regulatory coverage to address contractor requirements for a breach response consistent with the requirements. This FAR change will implement the requirements outlined in the Office of Management and Budget (OMB) Memorandum, M-17-12, “Preparing for and Responding to a Breach of Personally Identifiable Information,” section V part B.

Timetable:

Action | Date | FR Cite
NPRM | 01/00/20
NPRM Comment Period End | 03/00/20

Regulatory Flexibility Analysis Required: Yes.

Agency Contact: FAR Policy, DOD/GSA/NASA (FAR), 1800 F Street NW, Washington, DC 20405, Phone: 202 969-4075, Email: farpolicy@gsa.gov.

RIN: 9000-AN44

365. Federal Acquisition Regulation (FAR); FAR Case 2017-011, Section 508-Based Standards in Information and Communication Technology

E.O. 13771 Designation: Other.

Legal Authority: 40 U.S.C. 121(c); 10 U.S.C. ch. 137; 51 U.S.C. 20113

Abstract: DoD, GSA, and NASA are proposing to amend the Federal Acquisition Regulation (FAR) to incorporate revisions and updates to standards in section 508 of the Rehabilitation Act of 1973, developed by the Architectural and Transportation Barriers Compliance Board (also referred to as the “Access Board”). This FAR change incorporates the U.S. Access Board's final rule, “Information and Communication Technology (ICT) Standards and Guidelines,” published on January 18, 2017, which implemented revisions and updates to the section 508-based standards and section 255-based guidelines. This rule is expected to impose additional costs on Federal agencies. The purpose is to increase productivity for Federal employees with disabilities, time savings due to improved accessibility of Federal websites for members of the public with disabilities, and reduced call volumes to Federal agencies. Additionally, this rule harmonizes standards with national and international consensus standards. This would assist American ICT companies by helping them to achieve economies of scale created by a wider use of these technical standards.

Timetable:

Action | Date | FR Cite
NPRM | 11/00/19
NPRM Comment Period End | 01/00/20

Regulatory Flexibility Analysis Required: Yes.

Agency Contact: FAR Policy, DOD/GSA/NASA (FAR), 1800 F Street NW, Washington, DC 20405, Phone: 202 969-4075, Email: farpolicy@gsa.gov.

RIN: 9000-AN46

366. Federal Acquisition Regulation (FAR); FAR Case 2017-016, Controlled Unclassified Information (CUI)

E.O. 13771 Designation: Other.

Legal Authority: 40 U.S.C. 121(c); 10 U.S.C. ch. 137; 51 U.S.C. 20113

Abstract: DoD, GSA, and NASA are proposing to amend the Federal Acquisition Regulation (FAR) to implement the National Archives and Records Administration (NARA) Controlled Unclassified Information (CUI) program of Executive Order 13556 of November 4, 2010. As the executive agent designated to oversee the Governmentwide CUI program, NARA issued implementing regulations in late 2016 designed to address Federal agency policies for designating, safeguarding, disseminating, marking, decontrolling, and disposing of CUI. The NARA rule, which is codified at 32 CFR 2002, affects contractors that handle, possess, use, share, or receive CUI. This FAR rule helps to ensure uniform implementation of the requirements of the CUI program in contracts across Government agencies.

Timetable:

Action | Date | FR Cite
NPRM | 04/00/20
NPRM Comment Period End | 06/00/20

Regulatory Flexibility Analysis Required: Yes.

Agency Contact: FAR Policy, DOD/GSA/NASA (FAR), 1800 F Street NW, Washington, DC 20405, Phone: 202 969-4075, Email: farpolicy@gsa.gov.

RIN: 9000-AN56

367. Federal Acquisition Regulation (FAR); FAR Case 2017-018, Violation of Arms Control Treaties or Agreements With the United States

E.O. 13771 Designation: Other.

Legal Authority: 40 U.S.C. 121(c); 10 U.S.C. ch. 137; 51 U.S.C. 20113

Abstract: DoD, GSA, and NASA are issuing a proposed rule to address a public comment on the interim rule issued to amend the Federal Acquisition Regulation (FAR) to implement section 1290(c)(3) of the National Defense Authorization Act (NDAA) for FY 2017, which requires an offeror or any of its subsidiaries to certify that it does not engage in any activity that contributed to or is a significant factor in the determination that a country is not in full compliance with its obligations undertaken in all arms control, nonproliferation, and disarmament agreements or commitments in which the United States is a participating state.

Timetable:

Action | Date | FR Cite
Interim Final Rule | 06/15/18 | 83 FR 28145
Interim Final Rule Comment Period End | 08/14/18
NPRM | 02/00/20
NPRM Comment Period End | 04/00/20

Regulatory Flexibility Analysis Required: Yes.

Agency Contact: Cecelia L. Davis, Procurement Analyst, DOD/GSA/NASA (FAR), 1800 F Street NW, Washington, DC 20405, Phone: 202 219-0202, Email: cecelia.davis@gsa.gov.

RIN: 9000-AN57

368. Federal Regulation Acquisition (FAR); FAR Case 2017-019, Policy on Joint Ventures

E.O. 13771 Designation: Other.

Legal Authority: 40 U.S.C. 121(c); 10 U.S.C. ch. 137; 51 U.S.C. 20113

Abstract: DoD, GSA, and NASA are proposing to amend the Federal Acquisition Regulation (FAR) to implement regulatory changes made by the Small Business Administration (SBA), Small Business Mentor Protégé Programs, published on July 25, 2016 (81 FR 48557), regarding joint ventures and to clarify policy on 8(a) joint ventures. The regulatory changes provide industry with a new way to compete for small business or socioeconomic set-asides using a joint venture made up of a mentor and a protégé. The 8(a) joint venture clarification prevents confusion on an 8(a) joint venture's eligibility to compete for an 8(a) competitive procurement.

Timetable:

Action | Date | FR Cite
NPRM | 01/00/20
NPRM Comment Period End | 03/00/20

Regulatory Flexibility Analysis Required: Yes.

Agency Contact: Marilyn Chambers, Procurement Analyst, DOD/GSA/NASA (FAR), 1800 F Street NW, Washington, DC 20405, Phone: 202 969-7185, Email: marilyn.chambers@gsa.gov.

RIN: 9000-AN59

369. Federal Acquisition Regulation (FAR); FAR Case 2018-002, Protecting Life in Global Health Assistance

E.O. 13771 Designation: Regulatory.

Legal Authority: 40 U.S.C. 121(c); 10 U.S.C. 137; 51 U.S.C. 20113

Abstract: DoD, GSA, and NASA are proposing to amend the Federal Acquisition Regulation (FAR) to implement Presidential Memorandum, “The Mexico City Policy,” issued on January 13, 2017, in accordance with the Department of State's implementation plan dated May 9, 2017. This rule would extend requirements of the memorandum and plans to new funding agreements for global health assistance furnished by all Federal departments or agencies. This expanded policy will cover global health assistance to include funding for international health programs, such as those for HIV/AIDS, maternal and child health, malaria, global health security, and certain family planning and reproductive health.

Timetable:

Action | Date | FR Cite
NPRM | 02/00/20
NPRM Comment Period End | 04/00/20

Regulatory Flexibility Analysis Required: Yes.

Agency Contact: FAR Policy, DOD/GSA/NASA (FAR), 1800 F Street NW, Washington, DC 20405, Phone: 202 969-4075, Email: farpolicy@gsa.gov.

RIN: 9000-AN62

370. Federal Acquisition Regulation (FAR); FAR Case 2018-004; Increased Micro-Purchase and Simplified Acquisition Thresholds

E.O. 13771 Designation: Deregulatory.

Legal Authority: 40 U.S.C. 121(c); 10 U.S.C. ch. 137; 51 U.S.C. 20113

Abstract: DoD, GSA, and NASA are issuing a final rule to amend the FAR to implement sections 805, 806, and 1702(a) of the National Defense Authorization Act (NDAA) for FY 2018. Section 805 increases the micro-purchase threshold (MPT) to $10,000 and limits the use of convenience checks to not more than one half of the MPT amount (i.e., $5,000). Section 806 increases the simplified acquisition threshold (SAT) to $250,000. Section 1702(a) amends section 15(j)(1) of the Small Business Act (15 U.S.C. 644(j)(1)) to replace specific dollar thresholds with the terms “micro-purchase threshold” and “simplified acquisition threshold.”

Timetable:

Action | Date | FR Cite
NPRM | 10/02/19 | 84 FR 52420
NPRM Comment Period End | 12/02/19
Final Rule | 02/00/20

Regulatory Flexibility Analysis Required: Yes.

Agency Contact: Michael O. Jackson, Procurement Analyst, DOD/GSA/NASA (FAR), 1800 F Street NW, Washington, DC 20405, Phone: 202 208-4949, Email: michaelo.jackson@gsa.gov.

RIN: 9000-AN65

371. Federal Acquisition Regulation (FAR); FAR Case 2018-006; Definition of Subcontract

E.O. 13771 Designation: Other.

Legal Authority: 40 U.S.C. 121(c); 10 U.S.C. ch. 137; 51 U.S.C. 20113

Abstract: DoD, GSA, and NASA are proposing to implement section 820 of the National Defense Authorization Act (NDAA) for FY 2018. Section 820 amends 41 U.S.C. 1906(c)(1) to change the definition of “subcontract” for the procurement of commercial items to exclude agreements entered into by a contractor for the supply of commodities that are intended for use in the performance of multiple contracts with the Federal Government and other parties and are not identifiable to any particular contract.

Timetable:

Action | Date | FR Cite
NPRM | 02/00/20
NPRM Comment Period End | 04/00/20

Regulatory Flexibility Analysis Required: Yes.

Agency Contact: Michael O. Jackson, Procurement Analyst, DOD/GSA/NASA (FAR), 1800 F Street NW, Washington, DC 20405, Phone: 202 208-4949, Email: michaelo.jackson@gsa.gov.

RIN: 9000-AN66

372. Federal Acquisition Regulation (FAR); FAR Case 2018-005, Modifications to Cost or Pricing Data and Reporting Requirements

E.O. 13771 Designation: Deregulatory.

Legal Authority: 40 U.S.C. 121(c); 10 U.S.C. ch. 137; 51 U.S.C. 20113

Abstract: DoD, GSA, and NASA are issuing a final rule to amend the Federal Acquisition Regulation (FAR) to increase the Truth in Negotiation Act (TINA) threshold to $2 million and require other than certified cost or pricing data. The rule reduces the burden on contractors because they would not be required to certify their cost or pricing data between $750,000 and $2 million. This change implements section 811 of the National Defense Authorization Act (NDAA) for FY 2018. Section 811 modifies 10 U.S.C. 2306a and 41 U.S.C. 3502.

Timetable:

Action | Date | FR Cite
NPRM | 10/02/19 | 84 FR 52428
NPRM Comment Period End | 12/02/19
Final Rule | 02/00/20

Regulatory Flexibility Analysis Required: Yes.

Agency Contact: Ms. Zenaida Delgado, Procurement Analyst, DOD/GSA/NASA (FAR), 1800 F Street NW, Washington, DC 20405, Phone: 202 969-7207, Email: zenaida.delgado@gsa.gov.

RIN: 9000-AN69

373. Federal Acquisition Regulation (FAR); FAR Case 2018-012, Rights to Federally Funded Inventions and Licensing of Government-Owned Inventions

E.O. 13771 Designation: Other.

Legal Authority: 40 U.S.C. 121(c); 10 U.S.C. ch. 137; 51 U.S.C. 20113

Abstract: DoD, GSA, and NASA are proposing to amend the FAR to implement the changes to 37 CFR parts 401 and 404, “Rights to Federally Funded Inventions and Licensing of Government-Owned Inventions,” dated May 14, 2018. The changes reduce regulatory burdens, provide greater clarity to large businesses by codifying the applicability of Bayh-Dole as directed in Executive Order 12591, and provide greater clarity to all Federal funding recipients by updating regulatory provisions to align with provisions of the Leahy-Smith America Invents Act in terms of definitions and timeframes.

Timetable:

Action | Date | FR Cite
NPRM | 02/00/20
NPRM Comment Period End | 04/00/20

Regulatory Flexibility Analysis Required: Yes.

Agency Contact: Cecelia L. Davis, Procurement Analyst, DOD/GSA/NASA (FAR), 1800 F Street NW, Washington, DC 20405, Phone: 202 219-0202, Email: cecelia.davis@gsa.gov.

RIN: 9000-AN71

374. Federal Acquisition Regulation (FAR); FAR Case 2018-013, Exemption of Commercial and COTS Item Contracts From Certain Laws and Regulations

E.O. 13771 Designation: Deregulatory.

Legal Authority: 40 U.S.C. 121(c); 10 U.S.C. ch.137; 51 U.S.C. 20113

Abstract: DoD, GSA, and NASA are proposing to amend the Federal Acquisition Regulation (FAR) to implement paragraph (a) of section 839 of the John S. McCain National Defense Authorization Act for fiscal year 2019. Paragraph (a) requires the FAR Council to review each past determination made not to exempt contracts and subcontracts for commercial products, commercial services, and commercially available off-the-shelf (COTS) items from certain laws when these contracts would otherwise have been exempt under 41 U.S.C. 1906(d) or 41 U.S.C. 1907(b). The FAR Council or the Administrator for Federal Procurement Policy has to determine whether there still exists specific reason not to provide exemptions from certain laws. If no determination is made to continue to exempt commercial contracts and subcontracts from certain laws, paragraph (a) requires that revisions to the FAR be proposed to reflect exemptions from those laws. Paragraph (a) requires these revisions to be proposed within one year of the date of enactment of section 839.

Timetable:

Action | Date | FR Cite
NPRM | 12/00/19
NPRM Comment Period End | 02/00/20

Regulatory Flexibility Analysis Required: Yes.

Agency Contact: Mahruba Uddowla, Procurement Analyst, DOD/GSA/NASA (FAR), 1800 F Street NW, Washington, DC 20405, Phone: 703 605-2868, Email: mahruba.uddowla@gsa.gov.

RIN: 9000-AN72

375. Federal Acquisition Regulation (FAR); FAR Case 2018-014, Increasing Task-Order Level Competition

E.O. 13771 Designation: Other.

Legal Authority: 40 U.S.C. 121(c); 10 U.S.C. ch. 137; 51 U.S.C. 20113

Abstract: DoD, GSA, and NASA are proposing to amend the Federal Acquisition Regulation (FAR) to implement section 876 of the John S. McCain National Defense Authorization Act for fiscal year 2019, which would provide civilian agencies with an exception to the existing statutory requirement to include price to the Federal Government as an evaluation factor that must be considered in the evaluation of proposals for all contracts. The exception would only apply to IDIQ contracts and to Federal Supply Schedule contracts for services that are priced at an hourly rate. Furthermore, the exception would only apply in those instances where the Government intends to make a contract award to all qualifying offerors, thus affording maximum opportunity for effective competition at the task order level. An offeror would be qualified only if it is a responsible source and submits a proposal that conforms to the requirements of the solicitation, meets any technical requirements, and is otherwise eligible for award.

Timetable:

Action | Date | FR Cite
NPRM | 02/00/20
NPRM Comment Period End | 04/00/20

Regulatory Flexibility Analysis Required: Yes.

Agency Contact: Curtis E. Glover Sr., Procurement Analyst, DOD/GSA/NASA (FAR), 1800 F Street NW, Washington, DC 20405, Phone: 202 501-1448, Email: curtis.glover@gsa.gov.

RIN: 9000-AN73

376. Federal Acquisition Regulation (FAR); FAR Case 2018-016, Lowest Price Technically Acceptable Source Selection Process

E.O. 13771 Designation: Not subject to, not significant.

Legal Authority: 40 U.S.C. 121(c); 10 U.S.C. ch. 137; 51 U.S.C. 20113

Abstract: DoD, GSA, and NASA are issuing a final rule to amend the Federal Acquisition Regulation (FAR) to implement section 880 of the John S. McCain National Defense Authorization Act (NDAA) for Fiscal Year (FY) 2019 to avoid using lowest price technically acceptable source selection criteria in circumstances that would deny the Government the benefits of cost and technical tradeoffs in the source selection process.

Timetable:

Action | Date | FR Cite
NPRM | 10/02/19 | 84 FR 52425
NPRM Comment Period End | 12/02/19
Final Rule | 02/00/20

Regulatory Flexibility Analysis Required: Yes.

Agency Contact: Michael O. Jackson, Procurement Analyst, DOD/GSA/NASA (FAR), 1800 F Street NW, Washington, DC 20405, Phone: 202 208-4949, Email: michaelo.jackson@gsa.gov.

RIN: 9000-AN75

377. Federal Acquisition Regulation (FAR); FAR Case 2018-018, Revision of Definition of “Commercial Item”

E.O. 13771 Designation: Other.

Legal Authority: 40 U.S.C.121(c); 10 U.S.C. ch. 137; 51 U.S.C. 20113

Abstract: DoD, GSA, and NASA are proposing to amend the Federal Acquisition Regulation (FAR) to separate the commercial item definition into definitions of commercial product and commercial service. Section 836 of the National Defense Authorization Act (NDAA) for fiscal year (FY) 2019 (Pub. L. 115-232) set the effective date of the new definitions to January 1, 2020. This is consistent with the recommendations by the independent panel created by section 809 of the NDAA for FY 2016 (Pub. L. 11492). This case implements amendment to 41 U.S.C. 103.

Timetable:

Action | Date | FR Cite
NPRM | 12/00/19
NPRM Comment Period End | 02/00/20

Regulatory Flexibility Analysis Required: Yes.

Agency Contact: Zenaida Delgado, Procurement Analyst, DOD/GSA/NASA (FAR), 1800 F Street NW, Washington, DC 20405, Phone: 202 969-7207, Email: zenaida.delgado@gsa.gov.

RIN: 9000-AN76

378. Federal Acquisition Regulation (FAR); FAR Case 2018-019, Review of Commercial Clause Requirements and Flowdown

E.O. 13771 Designation: Deregulatory.

Legal Authority: 40 U.S.C. 121(c); 10 U.S.C. ch. 137; 51 U.S.C. 20113

Abstract: DoD, GSA, and NASA are proposing to amend the Federal Acquisition Regulation (FAR) to implement paragraphs (b) and (c) of section 839 of the John S. McCain National Defense Authorization Act for fiscal year 2019.

Paragraph (b) requires the FAR Council to review the FAR to assess every regulation that requires a specific clause in contracts for commercial products or commercial services, unless the regulation is required by law or Executive Order. Paragraph (b) also requires that revisions to the FAR be proposed to eliminate those regulations unless the FAR Council makes a determination not to eliminate a regulation.

Paragraph (c) requires the FAR Council to review the FAR to assess every regulation that requires a prime contractor to include a specific clause in subcontracts for commercially available off-the-shelf items, unless the clause is required by law or Executive Order. Paragraph (c) also requires that revisions to the FAR be proposed to eliminate those regulations unless the FAR Council makes a determination not to eliminate a regulation.

Paragraphs (b) and (c) require these revisions to be proposed within one year of the date of the enactment of section 839.

Timetable:

Action | Date | FR Cite
NPRM | 12/00/19
NPRM Comment Period End | 02/00/20

Regulatory Flexibility Analysis Required: Yes.

Agency Contact: Mahruba Uddowla, Procurement Analyst, DOD/GSA/NASA (FAR), 1800 F Street NW, Washington, DC 20405, Phone: 703 605-2868, Email: mahruba.uddowla@gsa.gov.

RIN: 9000-AN77

379. Federal Acquisition Regulation (FAR); FAR Case 2018-020, Construction Contract Administration

E.O. 13771 Designation: Other.

Legal Authority: 40 U.S.C. 121(c); 10 U.S.C. ch. 137; 51 U.S.C. 20113

Abstract: This proposal implements section 855 of the NDAA for FY 2019 (Pub. L. 115-232). Section 855 requires, for solicitations for construction contracts anticipated to be awarded to a small business, notification to prospective offerors regarding agency policies or practices in complying with FAR requirements relating to the timely definitization of requests for equitable adjustment and agency past performance in definitizing such requests.

Timetable:

Action | Date | FR Cite
NPRM | 01/00/20
NPRM Comment Period End | 03/00/20

Regulatory Flexibility Analysis Required: Yes.

Agency Contact: Marilyn Chambers, Procurement Analyst, DOD/GSA/NASA (FAR), 1800 F Street NW, Washington, DC 20405, Phone: 202 969-7185, Email: marilyn.chambers@gsa.gov.

RIN: 9000-AN78

380. Federal Acquisition Regulation (FAR); FAR Case 2018-021, Reserve Officer Training Corps and Military Recruiting on Campus

E.O. 13771 Designation: Fully or Partially Exempt.

Legal Authority: 40 U.S.C. 121(c); 10 U.S.C. ch. 137; 51 U.S.C. 20113

Abstract: DoD, GSA and NASA are issuing a final rule to amend the Federal Acquisition Regulation (FAR) to implement the requirements at 10 U.S.C. 983, which prohibits the award of certain Federal contracts or grants to institutions of higher education that prohibit Senior Reserve Officer Training Corps units or military recruiting on campus.

Timetable:

Action | Date | FR Cite
NPRM | 09/24/19 | 84 FR 49974
NPRM Comment Period End | 11/25/19
Final Rule | 05/00/20

Regulatory Flexibility Analysis Required: Yes.

Agency Contact: Cecelia L. Davis, Procurement Analyst, DOD/GSA/NASA (FAR), 1800 F Street NW, Washington, DC 20405, Phone: 202 219-0202, Email: cecelia.davis@gsa.gov.

RIN: 9000-AN79

381. Federal Acquisition Regulation (FAR); FAR Case 2018-022; Orders Issued Via Fax or Electronic Commerce

E.O. 13771 Designation: Not subject to, not significant.

Legal Authority: 40 U.S.C. 121(c); 10 U.S.C. ch. 137; 51 U.S.C. 20113

Abstract: DoD, GSA and NASA are issuing a final rule to amend the Federal Acquisition Regulation (FAR) clause 52.216-18, Ordering, to authorize issuance of orders via fax or email and clarify when an order is considered to be issued when utilizing these methods.

Timetable:

Action | Date | FR Cite
NPRM | 08/23/19 | 84 FR 44270
NPRM Comment Period End | 10/22/19
Final Rule | 03/00/20

Regulatory Flexibility Analysis Required: Yes.

Agency Contact: Curtis E. Glover Sr., Procurement Analyst, DOD/GSA/NASA (FAR), 1800 F Street NW, Washington, DC 20405, Phone: 202 501-1448, Email: curtis.glover@gsa.gov.

RIN: 9000-AN80

382. Federal Acquisition Regulation (FAR); FAR Case 2018-023, Taxes—Foreign Contracts in Afghanistan

E.O. 13771 Designation: Not subject to, not significant.

Legal Authority: 40 U.S.C. 121(c); 10 U.S.C. ch. 137; 51 U.S.C. 20113

Abstract: DoD, GSA, and NASA are issuing a final rule to amend the Federal Acquisition Regulation (FAR) to implement the provisions on taxes, duties, and fees contained in the Security and Defense Cooperation Agreement (dated 2014) and the North Atlantic Treaty Organization Status of Forces Agreement (dated 2014) with the Islamic Republic of Afghanistan. Both Agreements exempt the United States Government, and its contractors and subcontractors (other than those who are Afghan legal entities or residents), from paying any tax or similar charge assessed on activities associated with contracts performed within Afghanistan. The Agreements also exempt the acquisition, importation, exportation, reexportation, transportation, and use of supplies and services in Afghanistan, by or on behalf of the United States Government, from any taxes, customs, duties, fees, or similar charges in Afghanistan.

Timetable:

Action | Date | FR Cite
NPRM | 09/20/19 | 84 FR 49502
Correction | 10/15/19 | 84 FR 55109
NPRM Comment Period End | 11/19/19
Final Rule | 03/00/20

Regulatory Flexibility Analysis Required: Yes.

Agency Contact: FAR Policy, DOD/GSA/NASA (FAR), 1800 F Street NW, Washington, DC 20405, Phone: 202 969-4075, Email: farpolicy@gsa.gov.

RIN: 9000-AN81

383. Federal Acquisition Regulation (FAR); FAR Case 2018-024; Use of Interagency Fleet Management System Vehicles and Related Services

E.O. 13771 Designation: Other.

Legal Authority: 40 U.S.C. 121(c); 10 U.S.C. ch. 137; 51 U.S.C. 20113

Abstract: DoD, GSA, and NASA are proposing to amend the Federal Acquisition Regulation (FAR) clause 52.251-1, Interagency Fleet Management System Vehicles and Related Services, to provide contractors who have been authorized to use fleet vehicles with additional information on how to request the vehicles from the Government.

Timetable:

Action | Date | FR Cite
NPRM | 02/00/20
NPRM Comment Period End | 04/00/20

Regulatory Flexibility Analysis Required: Yes.

Agency Contact: Curtis E. Glover Sr., Procurement Analyst, DOD/GSA/NASA (FAR), 1800 F Street NW, Washington, DC 20405, Phone: 202 501-1448, Email: curtis.glover@gsa.gov.

RIN: 9000-AN82

384. Federal Acquisition Regulation (FAR); FAR Case 2019-001, Analysis for Equipment Acquisitions

E.O. 13771 Designation: Other.

Legal Authority: 40 U.S.C. 121(c); 10 U.S.C. ch. 137; 51 U.S.C. 20113

Abstract: DoD, GSA, and NASA are proposing to amend the FAR by implementing section 555 of the Federal Aviation Administration (FAA) Reauthorization Act for FY 2018 (Pub. L. 115-254), which requires equipment to be acquired using the method of acquisition most advantageous to the Government based on a case-by-case analysis of costs and other factors. Section 555 requires the methods of acquisition to be compared in the analysis to include, at a minimum: (1) Purchase; (2) long-term lease or rental; (3) short-term lease or rental; (4) interagency acquisition; or, (5) acquisition agreements with a State or local government. Section 555 exempts certain acquisitions from this required analysis.

Timetable:

Action | Date | FR Cite
NPRM | 02/00/20
NPRM Comment Period End | 04/00/20

Regulatory Flexibility Analysis Required: Yes.

Agency Contact: Michael O. Jackson, Procurement Analyst, DOD/GSA/NASA (FAR), 1800 F Street NW, Washington, DC 20405, Phone: 202 208-4949, Email: michaelo.jackson@gsa.gov.

RIN: 9000-AN84

385. Federal Acquisition Regulation (FAR); FAR Case 2019-002, Recreational Services on Federal Lands

E.O. 13771 Designation: Not subject to, not significant.

Legal Authority: 40 U.S.C. 121(c); 10 U.S.C. ch. 137; 51 U.S.C. 20113

Abstract: DoD, GSA, and NASA are issuing a final rule to amend the Federal Acquisition Regulation (FAR) to exempt contracts for seasonal recreational services and seasonal recreational equipment rental on Federal lands from the Executive Order 13658 minimum wage requirements. This rule implements Executive Order 13838 that was issued on May 25, 2018, and associated Department of Labor final rule published on September 26, 2018. In accordance with Executive Order 13838, this proposed rule will not limit Executive Order 13658's coverage of lodging and food services associated with seasonal recreational services, even when seasonal recreational services or seasonal recreational equipment rental are also provided under the same contract.

Timetable:

Action | Date | FR Cite
NPRM | 10/21/19 | 84 FR 56157
NPRM Comment Period End | 12/20/19
Final Rule | 04/00/20

Regulatory Flexibility Analysis Required: Yes.

Agency Contact: FAR Policy, DOD/GSA/NASA (FAR), 1800 F Street NW, Washington, DC 20405, Phone: 202 969-4075, Email: farpolicy@gsa.gov.

RIN: 9000-AN85

386. Federal Acquisition Regulation (FAR); FAR Case 2019-003, Substantial Bundling and Consolidation

E.O. 13771 Designation: Other.

Legal Authority: 40 U.S.C. 121(c); 10 U.S.C. ch. 137; 51 U.S.C. 20113

Abstract: DoD, GSA, and NASA are proposing to amend the Federal Acquisition Regulation (FAR) to implement section 863 of the National Defense Authorization Acts (NDAA) for FY 2016 and the Small Business Administration (SBA) implementing regulations requiring publication of a notice of substantial bundling and a notice of consolidation of contract requirements.

Timetable:

Action | Date | FR Cite
NPRM | 03/00/20
NPRM Comment Period End | 05/00/20

Regulatory Flexibility Analysis Required: Yes.

Agency Contact: Marilyn Chambers, Procurement Analyst, DOD/GSA/NASA (FAR), 1800 F Street NW, Washington, DC 20405, Phone: 202 969-7185, Email: marilyn.chambers@gsa.gov.

RIN: 9000-AN86

387. Federal Acquisition Regulation (FAR); FAR Case 2019-004, Good Faith in Small Business Subcontracting

E.O. 13771 Designation: Other.

Legal Authority: 40 U.S.C. 121(c); 10 U.S.C. ch. 137; 51 U.S.C. 20113

Abstract: DoD, GSA, and NASA are proposing to amend the Federal Acquisition Regulation (FAR) to implement section 1821 of the National Defense Authorization Act (NDAA) for FY 2017 and the Small Business Administration regulatory changes relating to small business subcontracting plans. Section 1821 requires examples of activities that would be considered a failure to make a good faith effort to comply with small business subcontracting plan requirements.

Timetable:

Action | Date | FR Cite
NPRM | 01/00/20
NPRM Comment Period End | 03/00/20

Regulatory Flexibility Analysis Required: Yes.

Agency Contact: Marilyn Chambers, Procurement Analyst, DOD/GSA/NASA (FAR), 1800 F Street NW, Washington, DC 20405, Phone: 202 969-7185, Email: marilyn.chambers@gsa.gov.

RIN: 9000-AN87

388. Federal Acquisition Regulation (FAR); FAR Case 2019-007, Update of Historically Underutilized Business Zone Program

E.O. 13771 Designation: Other.

Legal Authority: 40 U.S.C. 121(c); 10 U.S.C. ch. 137; 51 U.S.C. 20113

Abstract: DoD, GSA, and NASA are proposing to amend the Federal Acquisition Regulation (FAR) to implement regulatory changes proposed by the Small Business Administration regarding the Historically Underutilized Business Zone (HUBZone) Program. The proposed regulatory changes are intended to reduce the regulatory burden associated with the HUBZone Program.

Timetable:

Action | Date | FR Cite
NPRM | 05/00/20
NPRM Comment Period End | 07/00/20

Regulatory Flexibility Analysis Required: Yes.

Agency Contact: Marilyn Chambers, Procurement Analyst, DOD/GSA/NASA (FAR), 1800 F Street NW, Washington, DC 20405, Phone: 202 969-7185, Email: marilyn.chambers@gsa.gov.

RIN: 9000-AN90

389. Federal Acquisition Regulation (FAR); FAR Case 2019-008, Small Business Program Amendments

E.O. 13771 Designation: Other.

Legal Authority: 40 U.S.C. 121(c); 10 U.S.C. ch. 137; 51 U.S.C. 20113

Abstract: DoD, GSA, and NASA are proposing to amend the Federal Acquisition Regulation (FAR) to implement regulatory changes proposed by the Small Business Administration regarding small business programs. The proposed regulatory changes include the timing of the determination of size status for multiple-award contracts for which price is not evaluated at the contract level; the grounds for size-status protests; and the grounds for socioeconomic status protests.

Timetable:

Action | Date | FR Cite
NPRM | 06/00/20
NPRM Comment Period End | 08/00/20

Regulatory Flexibility Analysis Required: Yes.

Agency Contact: Marilyn Chambers, Procurement Analyst, DOD/GSA/NASA (FAR), 1800 F Street NW, Washington, DC 20405, Phone: 202 969-7185, Email: marilyn.chambers@gsa.gov.

RIN: 9000-AN91

390. Federal Acquisition Regulation (FAR); FAR Case 2019-009, Prohibition on Contracting With Entities Using Certain Telecommunications and Video Surveillance Services or Equipment

E.O. 13771 Designation: Fully or Partially Exempt.

Legal Authority: 40 U.S.C. 121(c); 10 U.S.C. ch. 137; 51 U.S.C. 20113

Abstract: DoD, GSA, and NASA are proposing to amend the Federal Acquisition Regulation (FAR) to implement paragraph (a)(1)(B) of section 889 of the National Defense Authorization Act (NDAA) for FY 19 (Pub. L. 115-232). Beginning two years from the enacted date, paragraph (a)(1)(B) of section 889 prohibits the Government from entering into a contract or extending or renewing a contract with an entity that uses any equipment, system, or service that uses covered telecommunications equipment and services from Huawei Technologies Company, ZTE Corporation, Hytera Communications Corporation, Hangzhou Technology Company, or Dahua Technology Company, to include any subsidiaries or affiliates. This FAR rule is needed to protect U.S. networks against cyber activities conducted through Chinese Government-supported telecommunications equipment and services. Paragraph (a)(1)(A) of section 889 is being implemented separately through FAR Case 2018-017.

Timetable:

Action | Date | FR Cite
NPRM | 12/00/19
NPRM Comment Period End | 02/00/20

Regulatory Flexibility Analysis Required: Yes.

Agency Contact: FAR Policy, DOD/GSA/NASA (FAR), 1800 F Street NW, Washington, DC 20405, Phone: 202 969-4075, Email: farpolicy@gsa.gov.

RIN: 9000-AN92

391. • Federal Acquisition Regulation (FAR); FAR Case 2019-010, Efficient Federal Operations

E.O. 13771 Designation: Other.

Legal Authority: 40 U.S.C. 121(c); 10 U.S.C. ch. 137; 51 U.S.C. 20113

Abstract: DoD, GSA, and NASA are proposing to amend the Federal Acquisition Regulation (FAR) to implement Executive Order 13834, “Efficient Federal Operations.” Executive Order 13834 directs Federal agencies to comply with statutory requirements related to energy and environmental performance in a manner that increases efficiency, maximizes performance, eliminates unnecessary use of resources, and protects the environment. This rule promotes the efficient acquisition of sustainable products, services, and construction methods in order to reduce energy and water consumption, reliance on natural resources, and enhance pollution prevention, within the Federal Government.

Timetable:

Action | Date | FR Cite
NPRM | 03/00/20
NPRM Comment Period End | 05/00/20

Regulatory Flexibility Analysis Required: Yes.

Agency Contact: FAR Policy, DOD/GSA/NASA (FAR), 1800 F Street NW, Washington, DC 20405, Phone: 202 969-4075, Email: farpolicy@gsa.gov.

RIN: 9000-AN94

392. • Federal Acquisition Regulation (FAR); FAR Case 2019-013, Inflation Adjustment of Acquisition-Related Thresholds

E.O. 13771 Designation: Other.

Legal Authority: 40 U.S.C. 121(c) ; 10 U.S.C. ch. 137; 51 U.S.C. 20113

Abstract: DoD, GSA, and NASA are issuing a proposed rule amending the Federal Acquisition Regulation (FAR) to implement the inflation adjustment of acquisition-related dollar thresholds. A statute (41 U.S.C. 1908) requires an adjustment every 5 years of acquisition-related thresholds for inflation using the Consumer Price Index for all urban consumers, except for the Construction Wage Rate Requirements statute (formerly Davis-Bacon Act), Service Contract Labor Standards statute, and trade agreements thresholds.

Timetable:

Action | Date | FR Cite
NPRM | 12/00/19
NPRM Comment Period End | 02/00/20

Regulatory Flexibility Analysis Required: Yes.

Agency Contact: Michael O. Jackson, Procurement Analyst, DOD/GSA/NASA (FAR), 1800 F Street NW, Washington, DC 20405, Phone: 202 208-4949, Email: michaelo.jackson@gsa.gov.

RIN: 9000-AN96

393. • Federal Acquisition Regulation (FAR); FAR Case 2019-015, Improving Consistency Between Procurement & Non-Procurement Procedures on Suspension and Debarment

E.O. 13771 Designation: Other.

Legal Authority: 40 U.S.C. 121(c); 10 U.S.C. ch. 137; 51 U.S.C. 20113

Abstract: DoD, GSA, and NASA are proposing to amend the Federal Acquisition Regulation (FAR) to bring the FAR and the Non-procurement Common Rule (NCR) procedures on suspension and debarment into closer alignment. The FAR covers procurement matters and the NCR covers other transactions, such as grants, cooperative agreements, contracts of assistance, loans and loan guarantees.

The Government uses suspension and debarment procedures to exercise business judgment. These procedures give Federal officials a discretionary means to exclude parties from participation in certain transactions, while affording those parties due process.

Timetable:

Action | Date | FR Cite
NPRM | 02/00/20
NPRM Comment Period End | 04/00/20

Regulatory Flexibility Analysis Required: Yes.

Agency Contact: Cecelia L. Davis, Procurement Analyst, DOD/GSA/NASA (FAR), 1800 F Street NW, Washington, DC 20405, Phone: 202 219-0202, Email: cecelia.davis@gsa.gov.

RIN: 9000-AN98

394. • Federal Acquisition Regulation (FAR); FAR Case 2019-016, Maximizing Use of American-Made Goods, Products and Materials

E.O. 13771 Designation: Other.

Legal Authority: 40 U.S.C. 121(c); 10 U.S.C. ch. 137; 51 U.S.C. 20113

Abstract: DoD, GSA, and NASA are proposing to amend the Federal Acquisition Regulation (FAR) to implement Executive Order (E.O.) 13881, Maximizing Use of American-Made Goods, Products, and Materials.

The case proposes to amend the applicable provisions in the FAR that would provide that materials shall be considered to be of foreign origin if: (A) For iron and steel end products, the cost of foreign iron and steel used in such iron and steel end products constitutes 5 percent or more of the cost of all the products used in such iron and steel end products; or (B) for all other end products, the cost of the foreign products used in such end products constitutes 45 percent or more of the cost of all the products used in such end products.

The case also proposes to amend the applicable provisions in the FAR so that the executive agency concerned shall in each instance conduct the reasonableness and public interest determination referred to in sections 8302 and 8303 of title 41, United States Code, on the basis of the following described differential formula, subject to the terms thereof: The sum determined by computing 20 percent (for other than small businesses), or 30 percent (for small businesses), of the offer or offered price of materials of foreign origin.

Timetable:

Action | Date | FR Cite
NPRM | 01/00/20
NPRM Comment Period End | 03/00/20

Regulatory Flexibility Analysis Required: Yes.

Agency Contact: Cecelia L. Davis, Procurement Analyst, DOD/GSA/NASA (FAR), 1800 F Street NW, Washington, DC 20405, Phone: 202 219-0202, Email: cecelia.davis@gsa.gov.

RIN: 9000-AN99

DEPARTMENT OF DEFENSE/GENERAL SERVICES ADMINISTRATION/NATIONAL AERONAUTICS AND SPACE ADMINISTRATION (FAR)

Final Rule Stage

395. Federal Acquisition Regulation (FAR); FAR Case 2013-002; Reporting of Nonconforming Items to the Government-Industry Data Exchange Program

Regulatory Plan: This entry is Seq. No. 151 in part II of this issue of the Federal Register.

RIN: 9000-AM58

396. Federal Acquisition Regulation (FAR); FAR Case 2014-002; Set-Asides Under Multiple Award Contracts

E.O. 13771 Designation: Fully or Partially Exempt.

Legal Authority: 40 U.S.C. 121(c); 10 U.S.C. ch. 137; 51 U.S.C. 20113

Abstract: DoD, GSA, and NASA are issuing a final rule amending the Federal Acquisition Regulation (FAR) to implement regulatory changes made by the Small Business Administration, which provide Governmentwide policy for partial set-asides and reserves and for set-asides of orders for small business concerns under multiple-award contracts.

Timetable:

Action | Date | FR Cite
NPRM | 12/06/16 | 81 FR 88072
NPRM Comment Period End | 02/06/17
Final Rule | 11/00/19

Regulatory Flexibility Analysis Required: Yes.

Agency Contact: Mahruba Uddowla, Procurement Analyst, DOD/GSA/NASA (FAR), 1800 F Street NW, Washington, DC 20405, Phone: 703 605-2868, Email: mahruba.uddowla@gsa.gov.

RIN: 9000-AM93

397. Federal Acquisition Regulation: FAR Case 2016-005; Effective Communication Between Government and Industry

E.O. 13771 Designation: Not subject to, not significant.

Legal Authority: 40 U.S.C. 121(c); 10 U.S.C. ch. 137; 51 U.S.C. 20113

Abstract: DoD, GSA, and NASA are issuing a final rule amending the Federal Acquisition Regulation (FAR) to implement section 887 of the NDAA for FY 2016 (Pub. L. 114-92). This law provides that Government acquisition personnel are permitted and encouraged to engage in responsible and constructive exchanges with industry. This change will permit and encourage Government acquisition personnel to engage in responsible and constructive exchanges with industry as part of market research as long as those exchanges are consistent with existing laws and regulations and promote a fair competitive environment.

Timetable:

Action | Date | FR Cite
NPRM | 11/29/16 | 81 FR 85914
NPRM Comment Period End | 03/02/17
Final Rule | 01/00/20

Regulatory Flexibility Analysis Required: Yes.

Agency Contact: Michael O. Jackson, Procurement Analyst, DOD/GSA/NASA (FAR), 1800 F Street NW, Washington, DC 20405, Phone: 202 208-4949, Email: michaelo.jackson@gsa.gov.

RIN: 9000-AN29

398. Federal Acquisition Regulation (FAR); FAR Case 2017-005, Whistleblower Protection for Contractor Employees

E.O. 13771 Designation: Not subject to, not significant.

Legal Authority: 40 U.S.C. 121(c); 10 U.S.C. ch. 137; 51 U.S.C. 20113

Abstract: DoD, GSA, and NASA issued a final rule to amend the Federal Acquisition Regulation (FAR) to implement 41 U.S.C. 4712, “Enhancement of Contractor Protection From Reprisal for Disclosure of Certain Information,” and makes the pilot program permanent. The pilot was enacted on January 2, 2013, by section 828 of the National Defense Authorization Act (NDAA) for fiscal year (FY) 2013. The rule clarifies that contractors and subcontractors are prohibited from discharging, demoting, or otherwise discriminating against an employee as a reprisal for disclosing to any of the entities such as agency Inspector Generals and Congress information that the employee reasonably believes is evidence of gross mismanagement of a Federal contract; a gross waste of Federal funds; an abuse of authority relating to a Federal contract; a substantial and specific danger to public health or safety; or a violation of law, rule, or regulation related to a Federal contract (including the competition for or negotiation of a contract.) This rule enhances whistleblower protections for contractor employees by making permanent the protection for disclosure of the aforementioned information, and ensuring that the prohibition on reimbursement for legal fees accrued in defense against reprisal claims applies to both contractors and subcontractors.

Timetable:

Action | Date | FR Cite
NPRM | 12/26/18 | 83 FR 66223
NPRM Comment Period End | 02/25/19
Final Rule | 12/00/19

Regulatory Flexibility Analysis Required: Yes.

Agency Contact: Cecelia L. Davis, Procurement Analyst, DOD/GSA/NASA (FAR), 1800 F NW, Washington, DC 20405, Phone: 202 219-0202, Email: cecelia.davis@gsa.gov.

RIN: 9000-AN32

399. Federal Acquisition Regulation (FAR); FAR Case 2016-011, Revision of Limitations on Subcontracting

E.O. 13771 Designation: Deregulatory.

Legal Authority: 40 U.S.C. 121(c); 10 U.S.C. ch. 137; 51 U.S.C. 20113

Abstract: DoD, GSA, and NASA are issuing a final rule to amend the Federal Acquisition Regulation (FAR) to revise and standardize the limitations on subcontracting, including the nonmanufacturer rule, that apply to small business concerns under FAR part 19 procurements. This rule incorporates The Small Business Administration's (SBA) final rule that implemented the statutory requirements of section 1651 of the National Defense Authorization Act (NDAA) for fiscal year 2013. This action is necessary to meet the Congressional intent of clarifying the limitations on subcontracting with which small businesses must comply, as well as the ways in which they can comply. The rule will benefit both small businesses and Federal agencies. The rule will allow small businesses to take advantage of subcontracts with similarly situated entities. As a result, these small businesses will be able to compete for larger contracts, which would positively affect their potential for growth as well as that of their potential subcontractors.

Timetable:

Action | Date | FR Cite
NPRM | 12/04/18 | 83 FR 62540
NPRM Comment Period End | 02/04/19
Final Rule | 01/00/20

Regulatory Flexibility Analysis Required: Yes.

Agency Contact: FAR Policy, DOD/GSA/NASA (FAR), 1800 F Street NW, Washington, DC 20405, Phone: 202 969-4075, Email: farpolicy@gsa.gov.

RIN: 9000-AN35

400. Federal Acquisition Regulations (FAR); FAR Case 2015-002, Requirements for DD Form 254, Contract Security Classification Specification

E.O. 13771 Designation: Not subject to, not significant.

Legal Authority: 40 U.S.C. 121(c); 10 U.S.C. ch. 137; 51 U.S.C. 20113

Abstract: DoD, GSA, and NASA are issuing a final rule to amend the Federal Acquisition Regulation (FAR) to require the use of Department of Defense (DoD) Wide Area Workflow (WAWF) for the electronic submission of the DD Form 254, “Contract Security Classification Specification.” This form is used to convey security requirements regarding classified information to contractors and subcontractors and must be submitted to the Defense Security Services (DSS) when contractors or subcontractors require access to classified information under contracts awarded by agencies that are covered by the National Industrial Security Program (NISP). By changing the submittal process of the form from a manual process to an automated one, the Government will reduce the cost of maintaining the forms, while also providing a centralized repository for classified contract security requirements and supporting data.

Timetable:

Action | Date | FR Cite
NPRM | 07/12/19 | 84 FR 33201
NPRM Comment Period End | 09/10/19
Final Rule | 04/00/20

Regulatory Flexibility Analysis Required: Yes.

Agency Contact: Curtis E. Glover Sr., Procurement Analyst, DOD/GSA/NASA (FAR), 1800 F Street NW, Washington, DC 20405, Phone: 202 501-1448, Email: curtis.glover@gsa.gov

RIN: 9000-AN40

401. Federal Acquisition Regulation (FAR); FAR Case 2017-010, Evaluation Factors for Multiple-Award Contracts

E.O. 13771 Designation: Deregulatory.

Legal Authority: 40 U.S.C. 121(c); 10 U.S.C. ch. 137; 51 U.S.C. 20113

Abstract: DoD, GSA, and NASA are issuing a final rule to amend the Federal Acquisition Regulation (FAR) to implement section 825 of the National Defense Authorization Act (NDAA) for FY 17 (Pub. L. 114-328). Section 825 amends 10 U.S.C. 2305(a)(3) to change the requirement regarding the consideration of cost or price to the Government as a factor in the evaluation of proposals for certain multiple-award task order contracts awarded by DoD, NASA, or the Coast Guard. At the Government's discretion, solicitations for multiple-award contracts, which intend to award the same or similar services to each qualifying offeror, do not require price or cost as an evaluation factor for the base contract award. This rule will streamline the award of contracts for DoD, NASA, and the Coast Guard because they will not be required to consider cost or price in the evaluation of the award decision. Relieving the requirement to account for cost or price when evaluating proposals for these types of contracts, which feature competitive orders, will enable procurement officials to focus their energy on establishing and evaluating the non-price factors that will result in more meaningful distinctions among offerors.

Timetable:

Action | Date | FR Cite
NPRM | 09/24/18 | 83 FR 48271
Correction | 10/23/18 | 83 FR 53421
NPRM Comment Period End | 11/23/18
Final Rule | 12/00/19 |

Regulatory Flexibility Analysis Required: Yes.

Agency Contact: Michael O. Jackson, Procurement Analyst, DOD/GSA/NASA (FAR), 1800 F Street NW, Washington, DC 20405, Phone: 202 208-4949, Email: michaelo.jackson@gsa.gov.

RIN: 9000-AN54

402. Federal Acquisition Regulation (FAR); FAR Case 2018-003, Credit for Lower-Tier Small Business Subcontracting

E.O. 13771 Designation: Not subject to, not significant.

Legal Authority: 40 U.S.C. 121(c); 10 U.S.C. ch. 137; 51 U.S.C. 20113

Abstract: DoD, GSA, and NASA are issuing a final rule to amend the Federal Acquisition Regulation to implement section 1614 of the National Defense Authorization Act (NDAA) of fiscal year 2014, as implemented in the Small Business Administration's final rule issued on December 23, 2016. Section 1614 allows other than small business prime contractors to receive small business subcontracting credit for subcontracts their subcontractors award to small businesses.

Timetable:

Action | Date | FR Cite
NPRM | 06/26/19 | 84 FR 30071
NPRM Comment Period End | 08/26/19
Final Rule | 06/00/20

Regulatory Flexibility Analysis Required: Yes.

Agency Contact: Marilyn Chambers, Procurement Analyst, DOD/GSA/NASA (FAR), 1800 F Street NW, Washington, DC 20405, Phone: 202 969-7185, Email: marilyn.chambers@gsa.gov.

RIN: 9000-AN61

403. Federal Acquisition Regulation (FAR); FAR Case 2018-017—Prohibition on Certain Telecommunications and Video Surveillance Services or Equipment

E.O. 13771 Designation: Fully or Partially Exempt.

Legal Authority: 40 U.S.C. 121(c); 10 U.S.C. ch. 137; 51 U.S.C. 20113

Abstract: DoD, GSA, and NASA are amending the Federal Acquisition Regulation (FAR) to implement section 889 of the National Defense Authorization Act (NDAA) for FY 19 (Pub. L. 115-232). Section 889 prohibits the procurement or use of covered telecommunications equipment and services from Huawei Technologies Company, ZTE Corporation, Hytera Communications Corporation, Hangzhou Technology Company, or Dahua Technology Company, to include any subsidiaries or affiliates. This FAR rule is needed to protect U.S. networks against cyber activities conducted through Chinese Government-supported telecommunications equipment and services.

Timetable:

Action | Date | FR Cite
Interim Final Rule | 08/13/19 | 84 FR 40216
Interim Final Rule Comment Period End | 10/15/19
Interim Final Rule | 11/00/19
Interim Final Rule Comment Period End | 01/00/20

Regulatory Flexibility Analysis Required: Yes.

Agency Contact: FAR Policy, DOD/GSA/NASA (FAR), 1800 F Street NW, Washington, DC 20405, Phone: 202 969-4075, Email: farpolicy@gsa.gov.

RIN: 9000-AN83

404. Federal Acquisition Regulation (FAR); FAR Case 2019-005, Update to Contract Performance Assessment Reporting System (CPARS)

E.O. 13771 Designation: Not subject to, not significant.

Legal Authority: 40 U.S.C. 121(c); 10 U.S.C. ch. 137; 51 U.S.C. 20113

Abstract: DoD, GSA, and NASA issued a final rule amending the Federal Acquisition Regulation (FAR) to implement changes regarding the Past Performance Information Retrieval System (PPIRS). This rule establishes that the Contract Performance Assessment Reporting System (CPARS) is the official system for past performance information.

Effective January 15, 2019, PPIRS was officially retired to conclude its merger with the CPARS. Data from PPIRS has been merged into CPARS.gov, making CPARS the official system for past performance information. This merge simplifies functions such as creating and editing performance and integrity records, changes to administering users and running reports, generating performance records, and viewing/managing performance records. Users will now have one location and one account to perform all functionality.

Timetable:

Action | Date | FR Cite
Final Rule | 09/10/19 | 84 FR 47865
Final Rule Effective | 10/10/19

Regulatory Flexibility Analysis Required: Yes.

Agency Contact: Curtis E. Glover Sr., Procurement Analyst, DOD/GSA/NASA (FAR), 1800 F Street NW, Washington, DC 20405, Phone: 202 501-1448, Email: curtis.glover@gsa.gov.

RIN: 9000-AN88

DEPARTMENT OF DEFENSE/GENERAL SERVICES ADMINISTRATION/NATIONAL AERONAUTICS AND SPACE ADMINISTRATION (FAR)

Completed Actions

405. Federal Acquisition Regulation (FAR); FAR Case 2015-015; Strategic Sourcing Documentation

E.O. 13771 Designation: Other.

Legal Authority: 40 U.S.C. 121(c); 10 U.S.C. ch 137; 51 U.S.C. 20113

Abstract: This case is closed because it was implementing a statutory provision pertaining to a program created by the Executive Branch that has become outdated since the statute was enacted. This case was initially opened to implement section 836 of the Carl Levin and Howard P. “Buck” McKeon National Defense Authorization Act for Fiscal Year 2015 (Pub. L. 113291; 41 U.S.C. 3301, note), which called for the creation of regulation governing the use of contract solutions established under the “Federal Strategic Sourcing Initiative” (FSSI). Since then, OMB has evolved and expanded FSSI into a larger and more comprehensive “Category Management” framework. OMB Memorandum M-19-13, Category Management: Making Smarter Use of Common Contract Solutions and Practices, issued on March 20, 2019, provides the requisite guidance on the use of category management, including requirements for the use of Governmentwide solutions. The FAR Council will review the need for regulatory changes in light of the OMB guidance and related developments since section 836 was enacted.

Completed:

Reason | Date | FR Cite
Withdrawn | 05/28/19

Regulatory Flexibility Analysis Required: Yes.

Agency Contact: Michael O. Jackson, Phone: 202 208-4949, Email: michaelo.jackson@gsa.gov.

RIN: 9000-AM89

406. Federal Acquisition Regulation (FAR); FAR Case 2015-033, Sustainable Acquisition

E.O. 13771 Designation: Other.

Legal Authority: 40 U.S.C. 121(c); 10 U.S.C. ch. 137; 51 U.S.C. 20113

Abstract: This case is closed because it primarily implemented Executive Order 13693, Planning for Federal Sustainability in the Next Decade, which has been rescinded and replaced with Executive Order 13834, “Efficient Federal Operations,” dated May 17, 2018. The remaining elements of the case have been rolled into a new FAR case, 2019-010, “Efficient Federal Operations,” which will implement Executive Order 13834.

Completed:

Reason | Date | FR Cite
Withdrawn | 05/28/19

Regulatory Flexibility Analysis Required: Yes.

Agency Contact: FAR Policy, Phone: 202 969-4075, Email: farpolicy@gsa.gov.

RIN: 9000-AN28

407. Federal Acquisition Regulation (FAR); FAR Case 2017-006, Exception From Certified Cost or Pricing Data Requirements—Adequate Price Competition

E.O. 13771 Designation: Not subject to, not significant.

Legal Authority: 40 U.S.C. 121(c); 10 U.S.C. ch. 137; 51 U.S.C. 20113

Abstract: DoD, GSA, and NASA are issuing a final rule to amend the Federal Acquisition Regulation (FAR) to implement section 822 of the National Defense Authorization Act (NDAA) for FY 2017 (Pub. L. 114-328). This rule applies to DoD, NASA, and the Coast Guard, and implements exceptions for these agencies at FAR 15.403(c)(1) from certified cost or pricing data requirements when price is based on adequate price competition. This rule also limits the exception for price based on adequate price competition to circumstances in which there is adequate competition that results in at least two or more responsive and viable competing bids.

Completed:

Reason | Date | FR Cite
Final Rule | 06/12/19 | 84 FR 27494
Final Rule Effective | 07/12/19

Regulatory Flexibility Analysis Required: Yes.

Agency Contact: Michael O. Jackson, Phone: 202 208-4949, Email: michaelo.jackson@gsa.gov.

RIN: 9000-AN53

408. Federal Acquisition Regulation (FAR); FAR Case 2017-020, Ombudsman for Indefinite-Delivery Contracts

E.O. 13771 Designation: Not subject to, not significant.

Legal Authority: 40 U.S.C. 121(c); 10 U.S.C. ch. 137; 51 U.S.C. 20113

Abstract: DoD, GSA, and NASA issued a final rule to amend the Federal Acquisition Regulation (FAR) by providing a new clause with contact information for the agency task and delivery order ombudsman as required by the FAR. Specifically, FAR 16.504(a)(4)(v) requires that the name, address, telephone number, facsimile number, and email address of the agency task and delivery order ombudsman be included in solicitations and contracts for an indefinite quantity requirement, if multiple awards may be made for uniformity and consistency.

Completed:

Reason | Date | FR Cite
Final Rule | 09/06/19 | 84 FR 38836
Final Rule Effective | 09/06/19

Regulatory Flexibility Analysis Required: Yes.

Agency Contact: Michael O. Jackson, Phone: 202 208-4949, Email: michaelo.jackson@gsa.gov.

RIN: 9000-AN58

409. Federal Acquisition Regulation (FAR); FAR Case 2018-010, Use of Product and Services of Kaspersky Lab

E.O. 13771 Designation: Not subject to, not significant.

Legal Authority: 40 U.S.C. 121(c); 10 U.S.C. ch. 137; 51 U.S.C. 20113

Abstract: DoD, GSA, and NASA issued a final rule to amend the Federal Acquisition Regulation (FAR) to implement section 1634 of the National Defense Authorization Act (NDAA) of fiscal year 2018 to prohibit any department, agency, organization, or other element of the Federal Government from using products and services developed or provided by Kaspersky Lab or any entity in which Kaspersky Lab has a majority ownership.

Completed:

Reason | Date | FR Cite
Final Rule | 09/10/19 | 84 FR 47861
Final Rule Effective | 09/10/19

Regulatory Flexibility Analysis Required: Yes.

Agency Contact: FAR Policy, Phone: 202 969-4075, Email: farpolicy@gsa.gov.

RIN: 9000-AN64

[FR Doc. 2019-26576 Filed 12-23-19; 8:45 am]

BILLING CODE 5001-06-P